COMMITTEE FOR PURCHASE FROM PEOPLE WHO ARE BLIND OR SEVERELY DISABLED

Procurement List, Proposed Additions and Deletions

AGENCY: Committee for Purchase From People Who Are Blind or Severely Disabled.

ACTION: Proposed Additions to and Deletions from the Procurement List.

SUMMARY: The Committee is proposing to add products to the Procurement List that will be furnished by nonprofit agencies employing persons who are blind or have other severe disabilities, and delete services previously provided by such agencies.

Comments Must Be Received On or Before: 5/6/2013.

ADDRESSES: Committee for Purchase From People Who Are Blind or Severely Disabled, 1401 S. Clarke Street, Suite 10800, Arlington, Virginia 22202-4149.

For Further Information or To Submit Comments Contact: Barry S. Lineback, Telephone: (703) 603-7740, Fax: (703) 603-0655, or email CMTEFedReg@AbilityOne.gov.

SUPPLEMENTARY INFORMATION: This notice is published pursuant to 41 U.S.C. 8503(a)(2) and 41 CFR 51-2.3. Its purpose is to provide interested persons an opportunity to submit comments on the proposed actions.

Additions

If the Committee approves the proposed additions, the entity of the Federal Government identified in this notice will be required to procure the products listed below from the nonprofit agency employing persons who are blind or have other severe disabilities.

The following products are proposed for addition to the Procurement List for production by the nonprofit agency listed:

Products

Gloves, Mechanics, Men's and Women's, Black

NSN: 8415-01-497-5381—small

NSN: 8415-01-497-5384—medium

NSN: 8415-01-497-5989—large

NSN: 8415-01-497-5987—xlarge

NSN: 8415-01-501-1557—xxlarge

NPA: South Texas Lighthouse for the Blind, Corpus Christi, TX

Contracting Activity: GENERAL SERVICES ADMINISTRATION, FORT WORTH, TX

Coverage: B-List for the Broad Government Requirement as aggregated by the General Services Administration.

Deletions

The following services are proposed for deletion from the Procurement List:

Services

Service Type/Location: Document Processing Service, Bureau of Alcohol, Tobacco, Firearms & Explosives, National Training Center, 244 Needy Road, Martinsburg, WV

NPA: Jeanne Bussard Center, Inc., Frederick, MD

Contracting Activity: DEPARTMENT OF THE TREASURY, WASHINGTON, DC

Service Type/Location: Janitorial/Custodial Service, U.S. Army Reserve Center: Wilkes-Barre, 1001 Highway 315, Wilkes-Barre, PA

NPA: United Rehabilitation Services, Inc., Wilkes-Barre, PA

Contracting Activity: DEPT OF THE ARMY, W6QM MICC-FT DIX (RC-E), FORT DIX, NJ

Barry S. Lineback,
Director, Business Operations.

[FR Doc. 2013-07985 Filed 4-4-13; 8:45 am]

BILLING CODE 6353-01-P